DEPARTMENT OF DEFENSE

Department of the Army, Corps of Engineers

Availability of Final Environmental Impact Statement for the Dallas Floodway Project, in the City of Dallas, Dallas County, TX

AGENCY: Department of the Army, U.S. Army Corps of Engineers, DoD.

ACTION: Notice of Availability.

SUMMARY: Pursuant to the National Environmental Policy Act (NEPA), the U.S. Army Corps of Engineers (USACE), Fort Worth District has prepared a Final Environmental Impact Statement (FEIS) that analyzes the potential effects for the implementation of flood risk management elements, ecosystem restoration features, recreation enhancement features, interior drainage plan improvements, and other proposed projects in and around the Dallas Floodway, in the City of Dallas, Dallas County, TX. The FEIS documents the existing condition of environmental resources in and around areas considered for development, and potential impacts on those resources as a result of implementing the alternatives. The alternatives considered in detail are: (1) Alternative 1, the No-Action Alternative or “Future Without Project Condition;” (2) Alternative 2, the Proposed Action. Alternative 2 evaluates two different design variations, one that anticipates potential Trinity Parkway construction within the Floodway and one that does not.

DATES: All written comments must be postmarked on or before January 18, 2015.

ADDRESSES: Comments may be submitted in writing to: Marcia Hackett, U.S. Army Corps of Engineers, Fort Worth District, P.O. Box 17300, Fort Worth, TX 76102-0300, or via email to marcia.r.hackett@usace.army.mil.

FOR FURTHER INFORMATION CONTACT: Marcia Hackett at (817) 886-1373 or via email at marcia.r.hackett@usace.army.mil.

SUPPLEMENTARY INFORMATION: The USACE, Fort Worth District has prepared a FEIS in accordance with the National Environmental Policy Act. The FEIS has been developed as a cooperative effort by the USACE Fort Worth District, the City of Dallas, TX (non-federal sponsor), and the Federal Highway Administration (cooperating agency). The FEIS describes the anticipated environmental and socioeconomic impacts of the proposed Dallas Floodway Project, and revises the Draft EIS released April 18, 2014. The City of Dallas proposes to implement flood risk management elements, Balanced Vision Plan (BVP) ecosystem and recreation features, and Interior Drainage Plan (IDP) improvements within the Dallas Floodway. The project area is located along the Trinity River from the abandoned Atchison, Topeka and Santa Fe bridge upstream to the confluence of the West and Elm Forks, then upstream along the West Fork for approximately 2.2 miles, and upstream along the Elm Fork for about 4 miles.

Section 5141 of the Water Resources Development Act of 2007 (Pub. L. 110-114; 121 Stat.1041), as amended in 2014, provides authorization for implementation of the City of Dallas Balanced Vision Plan Study and Interior Drainage Plan improvements following the preparation of required NEPA documentation. This action is in accordance with title 33 Code of Federal Regulations section 325.2(a)(4), which discusses NEPA procedures and documentation. The purpose of the Proposed Action is to reduce flood risk through flood risk management, enhance ecosystems, and provide greater recreation opportunities within the Dallas Floodway in Dallas, Texas. Flooding events on the Trinity River have historically caused loss of lives and damage to property and structures. Urbanization and past channelization and clearing have significantly degraded the natural terrestrial and aquatic habitat of the Dallas Floodway. Furthermore, the City of Dallas lacks sufficient recreational opportunities for citizens and visitors. Implementation of the Proposed Action is needed to comply with section 5141 of the Water Resources Development Act of 2007, as amended.

In addition to the Federal project described above, the City of Dallas has submitted an application for approval of the entire project (BVP and IDP) as a locally sponsored action under the provisions of 33 United States Code section 408 (section 408), section 404 of the Clean Water Act (CWA), and section 10 of the Rivers and Harbors Act. The Permit Number for this action is SWF-2014-00151.

USACE issued and made publicly available a Draft EIS (DEIS) on April 18, 2014. The findings of the DEIS were presented at a public meeting held on May 8, 2014, from 5:30 to 9:30 p.m., at the Dallas City Hall, L1FN Auditorium, 1500 Marilla, Dallas, Texas 75201. The DEIS was also made available via internet posting, hard copies available a local libraries, and discs provided on request. The comment period ran from April 18 through June 17, 2014. The USACE considered and responded to all relevant comments received during the Public Review Period and incorporated all relevant comments into the FEIS. Most of the comments were generally beyond the scope of the EIS and were related to the potential Trinity Parkway project, a separate project proposed by others.

Document Availability: Copies of the FEIS may be reviewed at the following location: U.S. Army Corps of Engineers, Fort Worth District Web site: http://www.swf.usace.army.mil/Missions/WaterSustainment/DallasFloodway.aspx Electronic copies may also be requested in writing at Marcia R. Hackett, P.O. Box 17300, Fort Worth, TX 76102-0300 or by telephone (817) 886-1373.

Rob Newman,
Director, Trinity River Corridor, Project Office.

[FR Doc. 2014-29714 Filed 12-18-14; 8:45 am]

BILLING CODE 3720-58-P